DEPARTMENT OF HOMELAND SECURITY

Federal Emergency Management Agency

[Docket ID FEMA-2022-0002; Internal Agency Docket No. FEMA-B-2299]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Colorado:
Jefferson | Unincorporated areas of Jefferson County (21-08-1089P). | The Honorable Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Mar. 3, 2023 | 080087
Mineral | City of Creede (21-08-1132P). | The Honorable Jeffrey Larson, Mayor, City of Creede, P.O. Box 457, Creede, CO 81130. | Town Hall, 2223 North Main Street, Creede, CO 81130. | https://msc.fema.gov/portal/advanceSearch. | Feb. 24, 2023 | 080118
Summit | Town of Breckenridge (22-08-0208P). | The Honorable Eric Mamula, Mayor, Town of Breckenridge, P.O. Box 168, Breckenridge, CO 80424. | Public Works Department, 1095 Airport Road, Breckenridge, CO 80424. | https://msc.fema.gov/portal/advanceSearch. | Feb. 27, 2023 | 080172
Summit | Unincorporated areas of Summit County (22-08-0208P). | The Honorable Tamara Pogue, Chair, Summit County Board of Commissioners, P.O. Box 68, Breckenridge, CO 80424. | Summit County Commons, 0037 Peak One Drive, Breckenridge, CO 80443. | https://msc.fema.gov/portal/advanceSearch. | Feb. 27, 2023 | 080290
Delaware: New Castle | Unincorporated areas of New Castle County (22-03-0655P). | The Honorable Matthew Meyer, Executive, New Castle County, 87 Reads Way, New Castle, DE 19720. | New Castle County Land Use Department, 87 Reads Way, New Castle, DE 19720. | https://msc.fema.gov/portal/advanceSearch. | Feb. 23, 2023 | 105085
Florida:
Hillsborough | Unincorporated areas of Hillsborough County (21-04-3923P). | Bonnie Wise, Administrator, Hillsborough County, 601 East Kennedy Boulevard, 26th Floor, Tampa, FL 33602. | Hillsborough County Center, 601 East Kennedy Boulevard, 22nd Floor, Tampa, FL 33602. | https://msc.fema.gov/portal/advanceSearch. | Mar. 2, 2023 | 120112
Monroe | Unincorporated areas of Monroe County (22-04-5025P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Mar. 16, 2023 | 125129
Monroe | Unincorporated areas of Monroe County (22-04-5380P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Mar. 13, 2023 | 125129
Orange | Unincorporated areas of Orange County (22-04-2597P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Mar. 13, 2023 | 120179
Pasco | Unincorporated areas of Pasco County (22-04-4232P). | Dan Biles, Administrator, Pasco County, 8731 Citizens Drive, New Port Richey, FL 34654. | Pasco County Administration Building, 8731 Citizens Drive, New Port Richey, FL 34654. | https://msc.fema.gov/portal/advanceSearch. | Mar. 6, 2023 | 120230
Pinellas | City of Seminole (22-04-3011P). | The Honorable Leslie Waters, Mayor, City of Seminole, 9199 113th Street, Seminole, FL 33772. | Community Development Department, 9199 113th Street, Seminole, FL 33772. | https://msc.fema.gov/portal/advanceSearch. | Feb. 23, 2023 | 120257
Polk | Unincorporated areas of Polk County (21-04-3985P). | Bill Beasley, Manager, Polk County, 330 West Church Street, Drawer BC01, Bartow, FL 33830. | Polk County Administration Building, 330 West Church Street, Bartow, FL 33830. | https://msc.fema.gov/portal/advanceSearch. | Mar. 2, 2023 | 120261
Georgia: Bryan | City of Pembroke (22-04-0157P). | The Honorable Judy B. Cook, Mayor, City of Pembroke, P.O. Box 130, Pembroke, GA 31321. | Administration Department, 353 North Main Steet, Pembroke, GA 31321. | https://msc.fema.gov/portal/advanceSearch. | Mar. 1, 2023 | 130017
Massassuchetts: Plymouth | Town of Wareham (22-01-0708P). | Derek Sullivan, Administrator, Town of Wareham, 54 Marion Road, Wareham, MA 02571. | Town Hall, 54 Marion Road, Wareham, MA 02571. | https://msc.fema.gov/portal/advanceSearch. | Mar. 3, 2023 | 255223
New Mexico: Sandoval | City of Rio Rancho (21-06-1075P). | The Honorable Greggory D. Hull, Mayor, City of Rio Rancho, 3200 Civil Center Circle Northeast, Rio Rancho, NM 87144. | City Hall, 3200 Civil Center Circle Northeast, Rio Rancho, NM 87144. | https://msc.fema.gov/portal/advanceSearch. | Feb. 17, 2023 | 350146
North Carolina:
Cumberland | City of Fayetteville (22-04-2695P). | The Honorable Mitch Colvin, Mayor, City of Fayetteville, 433 Hay Street, Fayetteville, NC 28301. | Zoning Department, 433 Hay Street, Fayetteville, NC 28301. | https://msc.fema.gov/portal/advanceSearch. | Feb. 28, 2023 | 370077
Cumberland | Unincorporated areas of Cumberland County (22-04-2062P). | The Honorable Glenn Adams, Chair, Cumberland County Board of Commissioners, P.O. Box 1829, Fayetteville, NC 28301. | Cumberland County Planning and Inspections Department, 130 Gillespie Street, Fayetteville, NC 28301. | https://msc.fema.gov/portal/advanceSearch. | Mar. 1, 2023 | 370076
Franklin | Unincorporated areas of Franklin County (22-04-3395P). | The Honorable Michael S. Schriver, Chair, Franklin County Board of Commissioners, 113 Market Street, Louisburg, NC 27549. | Franklin County Planning and Inspections Department, 215 East Nash Street, Louisburg, NC 27549. | https://msc.fema.gov/portal/advanceSearch. | Feb. 10, 2023 | 370377
Harnett | Unincorporated areas of Harnett County (22-04-2062P). | Lewis Weatherspoon, Chair, Harnett County Board of Commissioners, P.O. Box 759, Lillington, NC 27546. | Harnett County Planning Services Department, 420 McKinney Parkway, Lillington, NC 27546. | https://msc.fema.gov/portal/advanceSearch. | Mar. 1, 2023 | 370328
Pennsylvania:
Blair | Township of Freedom (22-03-0978P). | The Honorable Timothy James, Chair, Township of Freedom Board of Supervisors, 131 Municipal Street, East Freedom, PA 16637. | Township Hall, 131 Municipal Street, East Freedom, PA 16637. | https://msc.fema.gov/portal/advanceSearch. | Feb. 10, 2023 | 421388
Blair | Township of Greenfield (22-03-0978P). | The Honorable Jordan Oldham, Chair, Township of Greenfield Board of Supervisors, P.O. Box 313, Claysburg, PA 16625. | Township Hall, 477 Ski Gap Road, Claysburg, PA 16625. | https://msc.fema.gov/portal/advanceSearch. | Feb. 10, 2023 | 421389
Texas:
Bexar | City of San Antonio (21-06-2378P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Feb. 6, 2023 | 480045
Bexar | City of San Antonio (21-06-3278P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Feb. 6, 2023 | 480045
Caldwell | City of Lockhart (22-06-0376P). | Steve Lewis, Manager, City of Lockhart, P.O. Box 239, Lockhart, TX 78644. | City Hall, 308 West San Antonio Street, Lockhart, TX 78644. | https://msc.fema.gov/portal/advanceSearch. | Mar. 10, 2023 | 480095
Caldwell | Unincorporated areas of Caldwell County (22-06-0376P). | The Honorable Hoppy Haden, Caldwell County Judge, 110 South Main Street, Room 101, Lockhart, TX 78644. | Caldwell County Main Historic Courthouse, 110 South Main Street, Room 201, Lockhart, TX 78644. | https://msc.fema.gov/portal/advanceSearch. | Mar. 10, 2023 | 480094
Collin | City of McKinny (21-06-3351P). | The Honorable George Fuller, Mayor, City of McKinney, P.O. Box 517, McKinney, TX 75070. | Engineering Department, 221 North Tennessee Street, McKinney, TX 75069. | https://msc.fema.gov/portal/advanceSearch. | Feb. 27, 2023 | 480135
Collin | City of Plano (22-06-0995P). | The Honorable John Muns, Mayor, City of Plano, 1520 K Avenue, Plano, TX 75074. | City Hall, 1520 K Avenue, Plano, TX 75074. | https://msc.fema.gov/portal/advanceSearch. | Mar. 6, 2023 | 480140
Dallas | Town of Sunnyvale (22-06-1541P). | The Honorable Saji George, Mayor, Town of Sunnyvale, 127 North Collins Road, Sunnyvale, TX 75182. | Town Hall, 127 North Collins Road, Sunnyvale, TX 75182. | https://msc.fema.gov/portal/advanceSearch. | Feb. 21, 2023 | 480188
Denton | City of Denton (22-06-1168P). | The Honorable Gerard Hudspeth, Mayor, City of Denton, 215 East McKinney Street, Suite 100, Denton, TX 76201. | Engineering Department, 901-A Texas Street, Denton, TX 76209. | https://msc.fema.gov/portal/advanceSearch. | Feb. 24, 2023 | 480194
Denton | City of Fort Worth (22-06-1784P). | The Honorable Mattie Parker, Mayor, City of Fort Worth, 200 Texas Street, Fort Worth, TX 76102. | Department of Transportation and Public Works, Engineering Vault & Map Repository, 200 Texas Street, Fort Worth, TX 76102. | https://msc.fema.gov/portal/advanceSearch. | Feb. 27, 2023 | 480596
Denton | Unincorporated areas of Denton County (22-06-1168P). | The Honorable Andy Eads, Denton County Judge, 1 Courthouse Drive, Suite 3100, Denton, TX 76208. | Denton County Development Services Department, 3900 Morse Street, Denton, TX 76208. | https://msc.fema.gov/portal/advanceSearch. | Feb. 24, 2023 | 480774
Denton | Unincorporated areas of Denton County (22-06-1784P). | The Honorable Andy Eads, Denton County Judge, 1 Courthouse Drive, Suite 3100, Denton, TX 76208. | Denton County Public Works Department, Engineering Department, 1505 East McKinney Street, Suite 175, Denton, TX 76209. | https://msc.fema.gov/portal/advanceSearch. | Feb. 27, 2023 | 480774
Kaufman | City of Dallas (22-06-1541P). | The Honorable Eric Johnson, Mayor, City of Dallas, 1500 Marilla Street, Suite 5EN, Dallas, TX 75201. | Water Utilities Department, 312 East Jefferson Boulevard, Room 307, Dallas, TX 75203. | https://msc.fema.gov/portal/advanceSearch. | Feb. 21, 2023 | 480171
Kaufman | Unincorporated areas of Kaufman County (22-06-1541P). | The Honorable Hal Richards, Kaufman County Judge, 100 West Mulberry Street, Kaufman, TX 75142. | Kaufman County Development Services Department, 106 West Grove Street, Kaufman, TX 75142. | https://msc.fema.gov/portal/advanceSearch. | Feb. 21, 2023 | 480411
Montgomery | City of Conroe (22-06-1057P). | The Honorable Jody Czajkoski, Mayor, City of Conroe, P.O. Box 3066, Conroe, TX 77305. | City Hall, 700 Metcalf Street, Conroe, TX 77301. | https://msc.fema.gov/portal/advanceSearch. | Mar. 2, 2023 | 480484
Montgomery | City of Shenandoah (22-06-1057P). | The Honorable John Escoto, Mayor, City of Shenandoah, 29955 I-45 North, Shenandoah, TX 77381. | City Hall, 29955 I-45 North, Shenandoah, TX 77381. | https://msc.fema.gov/portal/advanceSearch. | Mar. 2, 2023 | 481256
Montgomery | Unincorporated areas of Montgomery County (22-06-1057P). | The Honorable Mark J. Keough, Montgomery County Judge, 501 North Thompson Street, Suite 401, Conroe, TX 77301. | Montgomery County Commissioners Court Building, 501 North Thompson Street, Suite 100, Conroe, TX 77381. | https://msc.fema.gov/portal/advanceSearch. | Mar. 2, 2023 | 480483
Utah:
Davis | City of Bountiful (22-08-0009P). | The Honorable Kendalyn Harris, Mayor, City of Bountiful, 795 South Main Street, Bountiful, UT 84010. | Engineering Department, 795 South Main Street, Bountiful, UT 84010. | https://msc.fema.gov/portal/advanceSearch. | Feb. 2, 2023 | 490039
Davis | City of Centerville (22-08-0009P). | The Honorable Clark Wilkinson, Mayor, City of Centerville, 250 North Main Street, Centerville, UT 84014. | Public Works Department, 655 North 1250 West, Centerville, UT 84014. | https://msc.fema.gov/portal/advanceSearch. | Feb. 2, 2023 | 490040
Salt Lake | City of West Valley City (22-08-0322P). | Wayne T. Pyle, Manager, City of West Valley City, 3600 South Constitution Boulevard, West Valley City, UT 84119. | City Hall, 3600 South Constitution Boulevard, West Valley City, UT 84119. | https://msc.fema.gov/portal/advanceSearch. | Feb. 21, 2023 | 490245
Virginia: Loudoun. | Unincorporated areas of Loudoun County (22-03-0302P). | Tim Hemstreet, Administrator, Loudoun County, 1 Harrison Street Southeast, 5th Floor, Leesburg, VA 20175. | Loudoun County Government Center, 1 Harrison Street Southeast, 3rd Floor, MSC #60, Leesburg, VA 20175. | https://msc.fema.gov/portal/advanceSearch. | Mar. 6, 2023 | 510090

[FR Doc. 2022-27745 Filed 12-20-22; 8:45 am]

BILLING CODE 9110-12-P